FEDERAL RESERVE SYSTEM

Change in Bank Control Notices; Formations of, Acquisitions by, and Mergers of Bank Holding Companies; Correction

Correction

This notice corrects a notice (FR Doc. 2013-00331) published on page 2273 of the issue for Thursday, January 10, 2013.

Under the Federal Reserve Bank of Kansas City heading, the entry for Whitewater Bancshares, Inc., Whitewater, Kansas, is revised to read as follows:

A. Federal Reserve Bank of Kansas City (Dennis Denney, Assistant Vice President) 1 Memorial Drive, Kansas City, Missouri 64198-0001:

1. The Donald L. Patry Revocable Trust, Ellen M. Patry Revocable Trust, and Ellen Patry, trustee, all of Newton, Kansas; Corey and Cynthia Patry, Wichita, Kansas; Brandon Patry, and Katie Patry, both of Valley Center, Kansas, as a group acting in concert, to retain control of Whitewater Bancshares, Inc., parent of Bank of Whitewater, both in Whitewater, Kansas.

Comments on this application must be received by January 25, 2013.

Dated: Board of Governors of the Federal Reserve System January 10, 2013.
Margaret McCloskey Shanks,
Deputy Secretary of the Board.

[FR Doc. 2013-00664 Filed 1-14-13; 8:45 am]

BILLING CODE 6210-01-P